DEPARTMENT OF THE INTERIOR

Bureau of Land Management

[LLAKA02000.L14300000.NJ0000]

Notice of Realty Action: Proposed Non-Competitive (Direct) Sale of Public Land in Slana, Alaska

AGENCY: Bureau of Land Management, Interior.

ACTION: Notice of Realty action.

SUMMARY: The Bureau of Land Management (BLM) is proposing a non-competitive (direct) sale of 5 acres of public land in Slana, Alaska, to the adjacent private landowner, Mr. Frederick Voight. The sale would take place under the provisions of the Federal Land Policy and Management Act of 1976 (FLPMA), at no less than the appraised fair market of value (FMV) of $5,500, to resolve an unauthorized use of public lands as a result of a failed homestead headquarters site claim.

DATES: The BLM must receive written comments regarding the proposed sale on or before October 26, 2015.

ADDRESSES: You may submit comments concerning this notice to BLM Glennallen Field Office, Attn: Dennis Teitzel, Field Manager, P.O. Box 147, Glennallen, AK 99588-0147.

FOR FURTHER INFORMATION CONTACT: Joseph Hart, Realty Specialist, phone 907-822-3217, at the above address. Persons who use a telecommunications device for the deaf (TDD) may call the Federal Information Relay Service (FIRS) at 1-800-877-8339 to leave a message or question for the above individual. The FIRS is available 24 hours a day, 7 days a week. You will receive a reply during the normal business hours.

SUPPLEMENTARY INFORMATION: The BLM will conduct a direct sale for the following parcel subject to the applicable provisions of Sections 203 and 209 of FLPMA, and 43 CFR parts 2711 and 2720:

Copper River Meridian, Alaska

T. 12 N., R. 9 E.

Sec. 12, E½NW¼SW¼NW¼.

The area described contains 5 acres.

The sale is in conformance with the East Alaska Resource Management Plan, approved September 2007, decision I-3-b-1, which allows the BLM to enter into a direct sale of public land at FMV to a failed claimant where improvements exist that are still owned, occupied, or used by the claimant. The BLM will offer the lands to Mr. Frederick Voight on a non-competitive basis pursuant to 43 CFR 2711.3-3 (a)(4), because a direct sale would best serve the public interest in order to resolve the unauthorized use or occupancy of the lands.

The BLM has completed a mineral potential report that concludes there are no locatable mineral values. The BLM proposes that conveyance of the Federal mineral interests would occur simultaneously with the sale of the land.

Upon publication of this Notice in the Federal Register, the described lands will be segregated from all forms of appropriation under the public land laws, including the mining laws, except for the sale provisions of FLPMA.

Until completion of the sale, the BLM will no longer accept land use applications affecting the identified public lands, except applications for the amendment of previously filed right-of-way applications or existing authorizations to increase the term of the grants in accordance with 43 CFR 2807.15 and 2886.15. The land would not be sold until at least November 9, 2015. The segregation terminates upon issuance of a patent, publication in the Federal Register of a termination of the segregation, or on September 8, 2017, unless extended by the BLM Alaska State Director in accordance with 43 CFR 2711.1-2(d) prior to the termination date. Mr. Voight would be required to pay a $50 nonrefundable filing fee for processing the conveyance of the mineral interests. Conveyance of the identified public land will be subject to valid existing rights and encumbrances of record, including but not limited to, rights-of-way for roads and public utilities. The patent, if issued, would be subject to the following terms, conditions, and reservations:

1. A reservation of a right-of-way to the United States for ditches and canals constructed by authority of the United States under the Act of August 30, 1890 (43 U.S.C. 945);

2. A condition that the conveyance be subject to valid existing rights of record;

3. An appropriate indemnification clause protecting the United States from claims arising out of the patentee's use, occupancy, or operations on the patented lands; and

4. Additional terms and conditions that the authorized officer deems appropriate.

Detailed information concerning the proposed land sale including an appraisal, a mineral report, and planning and environmental documents, are available for review at the BLM Glennallen Field Office at the above address or by calling 907-822-3217 during normal business hours of 8 a.m.-4:30 p.m., Monday through Friday, except for Federal holidays.

You may submit public comments regarding the sale in writing to the attention of the BLM, Glennallen Field Manager (see ADDRESSES above) on or before October 26, 2015. The BLM will not consider comments received in electronic form, such as email or facsimile.

Before including your address, phone number, email address, or other personal identifying information in your comment, you should be advised that your entire comment—including your personal identifying information—may be made publicly available at any time. While you can ask in your comment to withhold your personal identifying information from public review, we cannot guarantee that we will be able to do so.

Any adverse comments regarding this sale will be reviewed by the BLM State Director or other authorized official of the Department of the Interior, who may sustain, vacate, or modify this realty action in whole or in part. In the absence of timely filed objections, this realty action will become the final determination of the Department of the Interior.

Authority: 43 CFR 2710 and 2711.1-2(a) and (c).

Dated: March 20, 2015.
Callie Webber,
Acting District Manager, Anchorage District.

[FR Doc. 2015-22656 Filed 9-8-15; 8:45 am]

BILLING CODE 4310-JA-P